ENVIRONMENTAL PROTECTION AGENCY

40 CFR Part 63

[EPA-HQ-OAR-2014-0471; FRL-9924-36-OAR]

RIN 2060-AS26

Petition To Add n-Propyl Bromide to the List of Hazardous Air Pollutants; Extension of Comment Period

AGENCY: Environmental Protection Agency (EPA).

ACTION: Receipt of a complete petition; extension of public comment period.

SUMMARY: The Environmental Protection Agency (EPA) is announcing that the period for providing public comments on the February 6, 2015, receipt of a complete petition document titled “Petition To Add n-Propyl Bromide to the List of Hazardous Air Pollutants” is being extended by 60 days.

DATES: The public comment period for the receipt of a complete petition document published in the Federal Register on February 6, 2015 (80 FR 6676), is being extended by 60 days to May 7, 2015, in order to provide the public additional time to submit comments and supporting information.

ADDRESSES: Written comments on the receipt of a complete petition document may be submitted to the EPA electronically, by mail, by facsimile or through hand delivery/courier. Please refer to the Federal Register document (80 FR 6676) for the addresses and detailed instructions.

Docket. Publicly available documents relevant to this action are available for public inspection either electronically at http://www.regulations.gov or in hard copy at the EPA Docket Center, Room 3334, 1301 Constitution Avenue NW., Washington, DC. The Public Reading Room is open from 8:30 a.m. to 4:30 p.m., Monday through Friday, excluding legal holidays. A reasonable fee may be charged for copying. The official public docket for this rulemaking is Docket ID No. EPA-HQ-OAR-2014-0471.

FOR FURTHER INFORMATION CONTACT: Mr. John Schaefer, Policy and Strategies Group (D205-02), Sector Policies and Programs Division, Office of Air Quality Planning and Standards, U.S. Environmental Protection Agency, Research Triangle Park, North Carolina 27711; Telephone number: (919) 541-0296; Fax number (919) 541-5600; Email address: schaefer.john@epa.gov.

SUPPLEMENTARY INFORMATION:

Comment Period

After considering a request received to extend the public comment period, the EPA has decided to extend the public comment period for an additional 60 days. Therefore, the public comment period will end on May 7, 2015, rather than March 9, 2015. This extension will help ensure that the public has sufficient time to review the proposed rule, the supporting technical documents and data available in the docket.

Dated: March 2, 2015.
Stephen D. Page,
Director, Office of Air Quality Planning and Standards.

[FR Doc. 2015-05550 Filed 3-9-15; 11:15 am]

BILLING CODE 6560-50-P